DEPARTMENT OF THE INTERIOR

Fish and Wildlife Service

[FWS-R4-R-2009-N206; 40136-1265-0000-S3]

St. Johns National Wildlife Refuge, Brevard County, FL

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for St. Johns National Wildlife Refuge (NWR). We provide this notice in compliance with our CCP policy to advise other Federal agencies, State agencies, Tribes, and the public of our intentions, and to obtain suggestions and information on the scope of issues to consider in the planning process.

DATES: To ensure consideration, we must receive your written comments by January 13, 2010.

Special mailings, newspaper articles, and other media announcements will be used to inform the public and State and local government agencies of the opportunities for input throughout the planning process. A public scoping meeting will be held early in the CCP development process. The date, time, and place for the meeting will be announced in the local media and on the refuge's Internet web site as follows: http://www.fws.gov/merrittisland/subrefuges/SJ.html.

ADDRESSES: Send comments, questions, and requests for more information to: Mr. Bill Miller, Wildlife Biologist, St. Johns NWR CCP, Merritt Island National Wildlife Refuge Complex, P.O. Box 2683, Titusville, FL 32781.

FOR FURTHER INFORMATION CONTACT: Mr. Bill Miller; telephone: 561/715-0023; fax: 321/861-1276; E-mail: St.JohnsCCP@fws.gov.

SUPPLEMENTARY INFORMATION:

Introduction

With this notice, we initiate our process for developing a CCP for St. Johns NWR in Brevard County, Florida. This notice complies with our CCP policy to (1) Advise other Federal and State agencies, Tribes, and the public of our intention to conduct detailed planning on this refuge; and (2) obtain suggestions and information on the scope of issues to consider in the environmental document and during development of the CCP.

Background

The CCP Process

The National Wildlife Refuge System Administration Act of 1966, as amended by the National Wildlife Refuge System Improvement Act (16 U.S.C. 668dd-668ee), requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Each unit of the National Wildlife Refuge System is established for specific purposes. We use these purposes as the foundation for developing and prioritizing the management goals and objectives for each refuge within the National Wildlife Refuge System, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; other agencies; organizations; and the public. At this time we encourage input in the form of issues, concerns, ideas, and suggestions for the future management of St. Johns NWR. The refuge's Web site, special mailings, newspaper articles, and other media outlets will be used to announce opportunities for input throughout the planning process.

We will conduct the environmental assessment in accordance with the requirements of the National Environmental Policy Act of 1968, as amended (NEPA) (42 U.S.C. 4321 et seq.); NEPA regulations (40 CFR parts 1500-1508); other appropriate Federal laws and regulations; and our policies and procedures for compliance with those laws and regulations.

St. Johns NWR, in Brevard County, Florida, is managed as a unit of the Merritt Island National Wildlife Refuge Complex. Other refuges in the Complex include Merritt Island, Lake Wales Ridge, Pelican Island, Archie Carr, and Lake Woodruff. The refuge has two main management units: State Road 50 and Bee Line.

The refuge was established in 1971 to provide protection for threatened and endangered species and native diversity. The primary purpose is to “conserve fish or wildlife which are listed as endangered species or threatened species * * * (or) plants * * *” (16 U.S.C. 1534, Endangered Species Act). A secondary purpose provides for native species diversity and applies to specific refuge tracts for the “conservation, management, and restoration of the fish, wildlife, and plant resources and their habitats for the benefit of present and future generations of Americans” (16 U.S.C. 668dd(a)(2), National Wildlife Refuge Administration Act).

St. Johns NWR was originally envisioned to provide habitat for threatened and endangered species, specifically for the conservation of the dusky seaside sparrow, first discovered in 1872. Historic flood control projects, including channelization and interbasin diversions, helped drain wetlands for development purposes throughout Florida. These actions significantly altered dusky seaside sparrow habitat throughout the State. In 1967, the dusky seaside sparrow was listed as endangered by the Department of the Interior and by 1979, surveys determined that it had declined to 20 individual males. The last known sighting of this species in the wild was 1980. Despite our efforts to protect and recover the species through regulations, land acquisition, and land management efforts specifically targeting the needs of the dusky seaside sparrow, the species never recovered and was declared extinct in December 1990.

St. Johns NWR was named for and is part of the southern headwaters of the St. Johns River—a river system that runs south to north, eventually flowing into the Atlantic Ocean in northeastern Florida. The refuge is connected through surface and groundwater to the 310-mile-long St. Johns River and plays an important role in the river's health and integrity. Over time, the refuge's hydrologic setting has been altered through various dredge and fill activities both on the refuge (prior to refuge establishment) and off (prior to and after refuge establishment), which today poses considerable management challenges. Off-refuge hydrologic inputs are conveyed from the residentially developed areas surrounding the refuge through channelization and may lead to an overall decrease in refuge water quality. In addition, off-site inputs may alter water quantity, timing, and flows, thus impacting wetland composition and value for the benefit of fish and wildlife. Flood protection provided by existing channels and levees continues to be a valued commodity and is continually in demand as lands surrounding the refuge are converted to residential and commercial settings.

Today, the 6,194-acre St. Johns NWR is home to at least 20 Federal- and State-listed species, including the federally listed wood stork, crested caracara, eastern indigo snake, and American alligator. It is managed to benefit a diversity of species and a wide array of wetland habitats, including spartina marsh, the predominant habitat type found on the refuge. Its wetland marshes provide valuable resources for marshland species, including black rail and other secretive marsh birds. Refuge marshlands are managed primarily through the application of prescribed fire to maintain mosaics of marsh habitat.

Public Availability and Comments

Before including your address, phone number, email address, and/or other personal identifying information in your comment, you should be aware that your entire comment, including your personal identifying information, may be made publicly available at any time. While you can ask us in your comment to withhold your personal identifying information from public review, we cannot guarantee that we will be able to do so.

Authority

This notice is published under the authority of the National Wildlife Refuge System Improvement Act of 1997, Public Law 105-57.

Dated: October 30, 2009.
Mark J. Musaus,
Acting Regional Director.

[FR Doc. E9-29639 Filed 12-11-09; 8:45 am]

BILLING CODE 4310-55-P